DEPARTMENT OF ENERGY

Federal Energy Regulatory Commission

[Project No. 9951-057]

STS Hydropower, LLC; Charter Township of Van Buren, Michigan; Notice of Reasonable Period of Time for Water Quality Certification Application

On February 4, 2026 the Michigan Department of Environment, Great Lakes, and Energy (Michigan EGLE) submitted to the Federal Energy Regulatory Commission (Commission) notice that it received a request for a Clean Water Act section 401(a)(1) water quality certification as defined in 40 CFR 121.5, from STS Hydropower, LLC and Charter Township of Van Buren, Michigan, in conjunction with the above captioned project on February 3, 2026. Pursuant to the Commission's regulations,¹ we hereby notify Michigan EGLE of the following dates.

¹ 18 CFR 5.23(b)(2).

Date of Receipt of the Certification Request: February 3, 2026.

Reasonable Period of Time to Act on the Certification Request: One year, February 3, 2027.

If Michigan EGLE fails or refuses to act on the water quality certification request on or before the above date, then the certifying authority is deemed waived pursuant to section 401(a)(1) of the Clean Water Act, 33 U.S.C. 1341(a)(1).

(Authority: 18 CFR 2.1)

Dated: February 11, 2026.
Debbie-Anne A. Reese,
Secretary.

[FR Doc. 2026-03113 Filed 2-17-26; 8:45 am]

BILLING CODE 6717-01-P